NUCLEAR REGULATORY COMMISSION

[Docket No. 40-8907; NRC-2019-0026]

United Nuclear Corporation (UNC) Church Rock Project

AGENCY: Nuclear Regulatory Commission.

ACTION: Intent to prepare an environmental impact statement (EIS) and conduct a scoping process; request for comment.

SUMMARY: The U.S. Nuclear Regulatory Commission (NRC) received a license application by letter dated September 24, 2018, from United Nuclear Corporation (UNC). By this application, UNC is requesting authorization to amend its license (SUA-1475) to excavate approximately 1 million cubic yards (CY) of mine spoil from the Northeast Church Rock Mine Site and dispose of it at the existing mill site in Church Rock, New Mexico (the proposed action). The NRC staff will prepare an EIS to document the potential environmental impacts from the proposed action and reasonable alternatives. As part of the EIS development process, the NRC is seeking comments on the scope of its environmental review.

DATES: Comments must be filed by April 19, 2019. Comments received after this date will be considered, if it is practical to do so, but the Commission is able to ensure consideration only for comments received on or before this date.

ADDRESSES: You may submit comments by any of the following methods:

• Federal Rulemaking Website: Go to http://www.regulations.gov and search for Docket ID NRC-2019-0026. Address questions about Docket IDs in Regulations.gov to Krupskaya Castellon; telephone: 301-287-9221; email: Krupskaya.Castellon@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: UNC-ChurchRockEIS.resource@nrc.gov.

For additional direction on obtaining information and submitting comments, see “Obtaining Information and Submitting Comments” in the SUPPLEMENTARY INFORMATION section of this document.

FOR FURTHER INFORMATION CONTACT: Ashley Waldron, Office of Nuclear Material Safety and Safeguards, U.S. Nuclear Regulatory Commission, Washington, DC 20555-0001; telephone: 301-415-7317; email: Ashley.Waldron@nrc.gov.

SUPPLEMENTARY INFORMATION:

I. Obtaining Information and Submitting Comments

A. Obtaining Information

Please refer to Docket ID NRC-2019-0026 when contacting the NRC about the availability of information regarding this document. You may obtain publicly-available information related to this action by the following methods:

• Federal Rulemaking Website: Go to http://www.regulations.gov and search for Docket ID NRC-2019-0026.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. In addition, for the convenience of the reader, instructions about obtaining materials referenced in this document are provided in a table in Section VII of this notice entitled, Availability of Documents.

• NRC'S PDR: You may examine and purchase copies of public documents at the NRC's PDR, Room O1-F21, One White Flint North, 11555 Rockville Pike, Rockville, Maryland 20852.

• Project web page: Information related to the UNC Church Rock project can be accessed on the NRC's project web page at: https://www.nrc.gov/info-finder/decommissioning/uranium/united-nuclear-corporation-unc-.html.

B. Submitting Comments

Please include Docket ID NRC-2019-0026 in your comment submission. Written comments may be submitted during the scoping period as described in the ADDRESSES section of the document.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

By letter dated September 24, 2018, UNC, a wholly owned, indirect subsidiary of General Electric (GE) submitted an application to amend its license SUA-1475. UNC is seeking to move approximately 1,000,000 CY of mine spoils from the Northeast Church Rock Mine Site (Mine Site) onto the Church Rock Mill Site (mill site) in McKinley County, New Mexico.

The NRC staff has completed an acceptance review of UNC Church Rock license amendment application. By email dated January 4, 2019, the NRC notified UNC that the staff determined the application contains sufficient information for the NRC to conduct a detailed technical review (ADAMS Package Accession No. ML18360A424). The applicant's environmental report (ER) can be found under ADAMS Accession No. ML18267A387.

The purpose of this notice is to: (1) Inform the public that the NRC staff will prepare an EIS as part of its review of UNC Church Rock license amendment application in accordance with title 10 of the Code of Federal Regulations (10 CFR) Part 51 “Environmental Protection Regulations for Domestic Licensing and Related Regulatory Functions,” and (2) provide the public with an opportunity to participate in the environmental scoping process as defined in 10 CFR 51.29. In addition, as outlined in 36 CFR 800.8, “Coordination with the National Environmental Policy Act,” the NRC plans to coordinate compliance with Section 106 of the National Historic Preservation Act in meeting the requirements of the National Environmental Policy Act of 1969 (NEPA). The NRC staff also will document its compliance with other applicable Federal statutes, such as the Endangered Species Act, in the EIS.

III. Environmental Review

The EIS prepared by the NRC staff will examine the potential environmental impacts of the proposed action. The NRC staff will evaluate the potential impacts to various environmental resources, such as air quality, surface and ground water, transportation, geology and soils, and socioeconomics. The EIS will analyze potential impacts of UNC's proposal on historic and cultural resources and on threatened and endangered species. Additionally, the economic, technical, and other benefits and costs of the proposed action and alternatives will be considered in the EIS.

The NRC staff will also conduct a safety review to determine UNC's compliance with NRC's regulations, including 10 CFR part 20, “Standards for Protection Against Radiation” and 10 CFR part 40, “Domestic Licensing of Source Material.” The NRC staff's findings would be published in a safety evaluation report.

IV. Church Rock Mill Site

The NRC's Federal action is to either grant or deny UNC's license amendment request. If the NRC approves UNC's request, then UNC could proceed with the proposed project—as described in its application and summarized here.

UNC proposes to excavate approximately 1,000,000 CY of mine spoils from the Northeast Church Rock Mine site (mine site) onto the adjacent Church Rock Mill Site (mill site). Both the mine and mill sites are located in McKinley County, New Mexico. The former uranium-ore processing mill is licensed under NRC license SUA-1475. A byproduct material tailings impoundment currently exists within the mill site. Both the mine and mill sites are listed on the National Priorities List under the Comprehensive Environmental Response, Compensation, and Liability Act (CERCLA, also called Superfund). This license amendment is part of the proposed remediation and disposal of mine site waste. Waste that meets the Environmental Protection Agency (EPA) action levels for cleanup [2.24 picocuries per gram (pCi/g) of radium-226 and 230 mg/kg natural uranium or less] would be moved from the mine site and placed within the footprint the existing tailings impoundment on the mill site. Any waste that contains 200 pCi/g or more of radium-226 or 500 mg/kg of total uranium would be segregated and transported to an offsite licensed facility for disposal and therefore would not be placed at the mill site. Construction of a cover between the underlying tailings and the mine spoils is proposed as well as a cover over the final mine waste surface.

V. Alternatives To Be Evaluated

The EIS will analyze the environmental impacts of the proposed action, the no-action alternative, and reasonable alternatives. A brief description of each is provided below.

No-Action Alternative—The no-action alternative would be to deny the license application. Under this alternative, the NRC would not issue the license amendment and UNC would not be authorized to accept the waste from the Northeast Church Rock Mine site. This alternative serves as a baseline for the comparison of environmental impacts of the proposed action and the reasonable alternatives.

Proposed Action—The proposed Federal action is to issue a license amendment to UNC authorizing the company to amend its license SUA-1475 to move mine waste from the Northeast Church Rock Mine site onto the mill site for disposal.

Alternatives to the Proposed Action—Other alternatives not listed here may be identified during scoping or through the environmental review process.

VI. Scope of the Environmental Review

The NRC staff is conducting a scoping process for the UNC Church Rock EIS, which begins on the day this notice appears in the Federal Register. In accordance with 10 CFR 51.29, the NRC seeks public input to help the NRC determine the appropriate scope of the EIS, including significant environmental issues to be analyzed in depth, as well as those that should be eliminated from detailed study because they are peripheral or are not significant. The NRC staff is planning to publish information related to this action in newspapers serving communities near the Church Rock site requesting information and comments from the public. Additionally, the NRC is planning to hold public scoping meetings to receive comments in person in accordance with 10 CFR 51.26. The dates, times, and locations for the meetings will be provided on NRC's public web page at: https://www.nrc.gov/pmns/mtg.

After the close of the scoping period, the NRC staff will prepare a concise summary of its scoping process, the comments received, as well as the NRC's responses. The Scoping Summary Report will be included in NRC's draft EIS as an appendix and sent to each participant in the scoping process for whom the staff has an address or email address.

The UNC Church Rock EIS will address the potential impacts from the proposed action. The anticipated scope of the EIS will consider both radiological and non-radiological impacts associated with the proposed project and its alternatives. The EIS will also consider unavoidable adverse environmental impacts, the relationship between short-term uses of resources and long-term productivity, and irreversible and irretrievable commitments of resources. The following resource areas have been tentatively identified for analysis in the EIS: Land use, transportation, geology and soils, water resources, ecological resources, air quality and climate change, noise, historical and cultural resources, visual and scenic resources, socioeconomics, public and occupational health, waste management, environmental justice, and cumulative impacts. This list is not intended to be exhaustive, nor is it a predetermination of potential environmental impacts. The EIS will describe the NRC staff's approach and methodology undertaken to determine the resource areas that will be studied in detail and the NRC staff's evaluation of potential impacts to those resource areas.

The NRC encourages members of the public, local, State, Tribal, and Federal government agencies to participate in the scoping process. Written comments may be submitted during the scoping period as described in the ADDRESSES and SUPPLEMENTARY INFORMATION section of this document. Participation in the scoping process for the UNC Church Rock EIS does not entitle participants to become parties to any proceeding to which the EIS relates.

In addition to requesting scoping comments through this Federal Register notice, the NRC staff also intends to reach out to interested stakeholders, including other Federal and State agencies and Indian Tribes. The NRC staff seeks to identify, among other things, all review and consultation requirements related to the proposed action, and agencies with jurisdiction by law or with special expertise with respect to any environmental impact involved. The NRC invites such agencies to participate in the scoping process and, as appropriate, cooperate in the preparation of the EIS.

The NRC staff will continue its environmental review of UNC Church Rock license amendment application, and with its contractor, prepare a draft EIS and, as soon as practicable, publish it for public comment. The NRC staff plans to have a public comment period for the draft EIS. Availability of the draft EIS and the dates of the public comment period will be announced in a future Federal Register notice. The final EIS will include NRC's responses to public comments received on the draft EIS.

VII. Availability of Documents

The documents identified in this Federal Register notice are accessible to interested persons by the means indicated in either the SUPPLEMENTARY INFORMATION section of this notice or in the table below.

Document | ADAMS accession No.
UNC Church Rock license amendment application and ER (September 2018) | ML18267A235 (Package). ML18267A387.
NRC's acceptance of the application for docketing and detailed review | ML18360A424 (Package).

Dated at Rockville, Maryland, this 5th day of February, 2019.
For the U.S. Nuclear Regulatory Commission.
Michael F. King,
Director, Division of Fuel Cycle Safety, Safeguards, and Environmental Review, Office of Nuclear Material Safety, and Safeguards.

[FR Doc. 2019-01642 Filed 2-7-19; 8:45 am]

BILLING CODE 7509-01-P